EXPORT-IMPORT BANK

Notice of Open Meeting of the Advisory Committee of the Export-Import Bank of the United States (EXIM)

Time and Date: Thursday, June 4, 2020 from 1:00-4:00 p.m. EDT.

Place: The meeting will be held via teleconference and audio-only webinar.

Agenda: Discussion of EXIM policies and programs and comments for inclusion in EXIM's Report to the U.S. Congress on Global Export Credit Competition.

Public Participation: The meeting will be open to public participation and time will be allotted for questions or comments submitted online. Members of the public may also file written statements before or after the meeting to external@exim.gov. Interested parties may register for the meeting at https://attendee.gotowebinar.com/register/8637174416610897679.

Further Information: For further information, contact the Office of External Engagement at external@exim.gov.

Joyce Stone,
Assistant Corporate Secretary.

[FR Doc. 2020-11584 Filed 5-28-20; 8:45 am]

BILLING CODE 6690-01-P